DEPARTMENT OF THE INTERIOR

Bureau of Land Management

[LLWY920000 L14300000.ET0000; WYW 115104]

Proposed Withdrawal Extension and Opportunity for Public Meeting, Wyoming; Correction

AGENCY: Bureau of Land Management, Interior.

ACTION: Notice of correction.

SUMMARY: This action corrects one of the counties referenced in the Notice of Proposed Withdrawal Extension and Opportunity for Public Meeting, published in the Federal Register on Tuesday, April 26, 2011 (76 FR 23333). The counties reference is hereby corrected to read “Albany and Carbon counties,” as referenced in PLO No. 6886 (56 FR 50661 (1991)).

Ruth Welch,
Associate State Director.

[FR Doc. 2011-15153 Filed 6-17-11; 8:45 am]

BILLING CODE 3410-11-P